DEPARTMENT OF TRANSPORTATION

Federal Aviation Administration

14 CFR Part 39

[Docket No. FAA-2008-0288; Directorate Identifier 2006-SW-25-AD]

RIN 2120-AA64

Airworthiness Directives; Bell Helicopter Textron, Inc. Model 214B and B-1 Helicopters

AGENCY: Federal Aviation Administration, DOT.

ACTION: Notice of proposed rulemaking (NPRM).

SUMMARY: This document proposes adopting a new airworthiness directive (AD) for Bell Helicopter Textron, Inc. (BHTI) Model 214B and B-1 helicopters. The AD would require creating a component history card or equivalent for each pylon support spindle assembly (spindle), and inspecting certain spindles for any corrosion, or a nick, scratch, dent, or crack, and replacing any unairworthy spindle before further flight. This proposal is prompted by three in-flight failures of spindles that resulted in forced landings. The actions specified by the proposed AD are intended to detect damage in the radii or cracking of a spindle, and to prevent failure of a spindle and subsequent loss of control of the helicopter.

DATES: Comments must be received on or before May 12, 2008.

ADDRESSES: Use one of the following addresses to submit comments on this proposed AD:

• Government-wide rulemaking Web site: Go to http://www.regulations.gov and follow the instructions for sending your comments electronically;

• Mail: U.S. Department of Transportation, Docket Operations, M-30, West Building Ground Floor, Room W12-140, 1200 New Jersey Avenue, SE., Washington, DC 20590;

• Hand Delivery: Deliver to the “Mail” address between 9 a.m. and 5 p.m., Monday through Friday, except Federal holidays; or

• Fax: 202-493-2251.

You may get the service information identified in this proposed AD from Bell Helicopter Textron, Inc., P.O. Box 482, Fort Worth, Texas 76101, telephone (817) 280-3391, fax (817) 280-6466.

You may examine the comments to this proposed AD in the AD docket on the Internet at http://www.regulations.gov.

FOR FURTHER INFORMATION CONTACT: Michael Kohner, Aviation Safety Engineer, FAA, Rotorcraft Directorate, Rotorcraft Certification Office, Fort Worth, Texas 76193-0170, telephone (817) 222-5447, fax (817) 222-5783.

SUPPLEMENTARY INFORMATION:

Comments Invited

We invite you to submit any written data, views, or arguments regarding this proposed AD. Send your comments to the address listed under the caption ADDRESSES. Include the docket number “FAA-2008-0288, Directorate Identifier 2006-SW-25-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of the docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for BHTI Model 214B and B-1 helicopters. The AD would require, within 50 hours time-in-service (TIS), creating a component history card or equivalent record for each spindle, and begin recording the spindle's TIS and number of take-offs and external load lifts accomplished with the spindle installed. It would also require a one-time visual inspection of the outer radius of the spindle for any corrosion or a nick, scratch, or dent, using a 3x-power or higher magnifying glass, and a one-time magnetic particle inspection of the spindles for a crack. The inspections would be required within 100 hours TIS, or 325 hours TIS since the last overhaul of the transmission assembly, whichever occurs later, for spindles with 5,000 or more hours TIS, or spindles for which the total number of hours TIS is unknown and were installed before the last overhaul of the transmission assembly. For spindles having 5,000 or more hours TIS, or spindles for which the total number of hours TIS is unknown, that were installed after the last overhaul of the transmission assembly, or the installation history is unknown, the inspections would be required within 100 hours TIS. The proposed AD would also require, before further flight, replacing any spindle on which any corrosion or a crack is discovered, and replacing any spindle that has a nick, scratch, or dent, or repairing the spindle if the damage is within the repair limits that are stated in the applicable component repair and overhaul manual. This proposal is prompted by three in-flight failures of the spindle, part number 214-030-606-005, which resulted in forced landings and one serious injury. All three helicopters were involved in logging operations, which put more torque cycles on the main rotor and transmission systems. The failures occurred at 694, 810, and 1,928 hours TIS since the last overhaul of the transmission assembly on helicopters having a total TIS of 3,500 to 17,000 hours. Currently, the spindles do not have a retirement life on either the Model 214B or 214B-1 helicopters, and the number of hours TIS for the spindles is not required to be tracked on a component history card or equivalent record. The current inspections specified in the maintenance manuals are a magnetic particle inspection at each 2,500 hours TIS transmission overhaul, and a visual inspection for mechanical or corrosion damage, using a 3x-power magnifying glass, at each main rotor tension-torsion strap change. A magnetic particle inspection is also required following the occurrence of a sudden stoppage of the main rotor system. The actions specified by the proposed AD are intended to detect damage in the radii or cracking of a spindle, and to prevent failure of a spindle and subsequent loss of control of the helicopter. The actions of this proposed AD are intended as interim actions until a retirement life for these spindles can be developed and new replacement spindles become available.

This unsafe condition is likely to exist or develop on other helicopters of the same type design. Therefore, the proposed AD would require creating a component history card or equivalent for each spindle, inspecting certain spindles for any corrosion, or a nick, scratch, dent, or crack, and replacing any unairworthy spindle before further flight.

We estimate that this proposed AD would affect 10 helicopters of U.S. registry, and the proposed actions would take approximately:

• 15 work hours to remove and replace a set of spindles for inspecting;

• 2 work hours to conduct a magnetic particle inspection; and

• 15 work hours to replace a set of spindles at an average labor rate of $80 per work hour. Required parts would cost approximately $10,735 for a set of spindles. Based on these figures, the total cost impact of the proposed AD on U.S. operators would be $25,535, assuming the inspections are performed once for each helicopter and one set of spindles is replaced.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. Go to the government-wide rulemaking Web site at: http://www.regulations.gov to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron, Inc.: Docket No. FAA-2008-0288; Directorate Identifier 2006-SW-25-AD.

Applicability

Model 214B and B-1 helicopters, with pylon support spindle assembly (spindle), part number 214-030-606-005, installed, certificated in any category.

Compliance

Required as indicated, unless accomplished previously.

To detect damage in the radii or cracking of a spindle, and to prevent failure of a spindle and subsequent loss of control of the helicopter, accomplish the following:

(a) Within 50 hours time-in-service (TIS):

(1) Create a component history card or equivalent record for each spindle, stating the spindle's serial number. Begin recording the number of hours TIS, and the number of take-offs and external load lifts. An external load lift occurs when a load is picked up at one location and is released at another location.

(2) Review the helicopter records to determine if there has been a sudden stoppage of the main rotor system, or any hard landing, on a helicopter with any affected spindle installed and record any such events on the component history card or equivalent record.

(b) Record all conditional inspections of each spindle on the component history card or equivalent record. A sudden stoppage of the main rotor system is defined as any rapid deceleration of the drive system, whether caused by seizure within the helicopter transmission or by contact of a main rotor blade with the ground, water, snow, dense vegetation, or other object of sufficient inertia to cause rapid deceleration.

(c) For each spindle with 5,000 or more hours TIS, or any spindle for which the number of hours TIS is unknown, perform the inspections in paragraphs (c)(1) and (c)(2) of this AD within the hours TIS specified in Table 1 of this AD:

Table 1
For spindles, part number 214-030-606-005, that were installed on the transmission assembly: | Inspect within:
Before the last overhaul of the transmission assembly | 100 hours TIS or 325 hours TIS since the last overhaul of the transmission assembly, whichever occurs later.
After the last overhaul of the transmission assembly or for which the installation history is unknown | 100 hours TIS.

(1) Visually inspect each outer radius of the spindle for any corrosion, or a nick, scratch, or dent, using a 3x-power or higher magnifying glass; and

(2) Conduct a magnetic particle inspection of the spindle for a crack.

(d) Before further flight, if a crack or any corrosion is found, replace the spindle with an airworthy spindle.

(e) Before further flight, replace any spindle that has a nick, scratch, or dent with an airworthy spindle, or repair it if it is within the repair limits.

Note 2: The repair limits are specified in the applicable component repair and overhaul manual.

(f) To request a different method of compliance or a different compliance time for this AD, follow the procedures in 14 CFR 39.19. Contact the Manager, Rotorcraft Certification Office, FAA, ATTN: Michael Kohner, Aviation Safety Engineer, Fort Worth, Texas 76193-0170, telephone (817) 222-5447, fax (817) 222-5783, for information about previously approved alternative methods of compliance.

Issued in Fort Worth, Texas, on March 3, 2008.
David A. Downey,
Manager, Rotorcraft Directorate, Aircraft Certification Service.

[FR Doc. E8-5060 Filed 3-12-08; 8:45 am]

BILLING CODE 4910-13-P